DEPARTMENT OF HEALTH AND HUMAN SERVICES

Centers for Disease Control and Prevention

[60Day-02-71]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Adult and Pediatric HIV/AIDS Confidential Case Reports (CDC 50.42A, 50.42B)—New—National Center for HIV, STD, and TB Prevention (NCHSTP), Centers for Disease Control and Prevention (CDC). This data collection system was formerly included and approved under the National Disease Surveillance Program, OMB No. 0920-0009, National Center for Infectious Disease (NCID), CDC. CDC is seeking a 3-year OMB approval to continue data collection of the HIV/AIDS case reports, with revisions of the report forms to collect race and ethnicity data in adherence to OMB Statistical Policy Directive 15, Race and Ethnic Standards for Federal Statistics and Administrative Reporting.

The National Adult and Pediatric HIV/AIDS Confidential Case Reports are collected as part of the HIV/AIDS Surveillance System. CDC in collaboration with health departments in the states, territories, and the District of Columbia, conducts national surveillance for cases of human immunodeficiency virus (HIV) infection and the acquired immunodeficiency syndrome (AIDS), the end-stage of disease caused by infection with HIV. HIV/AIDS surveillance data collection by CDC is authorized under sections 301 and 306 of the Public Health Service Act (42 U.S.C. 241 and 242k).

Currently, 55 states (areas/territories) mandate and collect AIDS surveillance data. In addition, 35 areas mandate and collect surveillance data on HIV cases which have not progressed to AIDS in adults/adolescents and/or children using the HIV/AIDS case report forms. The purpose of HIV/AIDS surveillance data is to monitor trends in HIV/AIDS and describe the characteristics of infected persons (e.g., demographics, modes of exposure to HIV, manifestations of severe HIV disease, and deaths due to AIDS). Because HIV infection results in untimely death and most often infects younger adults in the prime years of life, large amounts of federal, state, and local government funding have been allocated to address all aspects of HIV infection, including prevention and treatment. HIV/AIDS surveillance data are widely used at all government levels to assess the impact of HIV infection on morbidity and mortality, to allocate medical care resources and services, and to guide prevention and disease control activities.

HIV/AIDS reports are sent to state/local health departments by laboratories, physicians, hospitals, clinics, and other health care providers using standard adult and pediatric case report forms. Areas use a microcomputer system developed by CDC (the HIV/AIDS Reporting System, HARS) to store and analyze data, as well as transmit encrypted data to CDC. An HIV program area module (PAM) for the National Electronic Disease Surveillance System (NEDSS) is in the early development stage and will replace HARS when it is complete.

In order to adhere to OMB Directive 15, the proposed data collection form will collect race and ethnicity separately, collect multiple races, and disaggregate Asian/Pacific Islander into two categories: Asian and Native Hawaiian/Other Pacific Islander.

No other federal agency collects this type of national HIV/AIDS data. In addition to providing technical assistance for use of the case report forms, CDC also provides reporting areas with technical support for the HARS software. There is no cost to respondents.

Form | Number of respondents | Number of responses/respondent | Average burden/response/ (in hours) | Total burden (in hours)
Adult Case Report: AIDS | 55 | 782 | 10/60 | 7,168
Adult Case Report: HIV | 35 | 1007 | 10/60 | 5,874
Peds Case Report: AIDS | 55 | 3 | 10/60 | 28
Peds Case Report: HIV | 35 | 16 | 10/60 | 93
Total |  |  |  | 13,163

Dated: July 19, 2002.
Nancy E. Cheal,
Acting Associate Director for Policy, Planning and Evaluation, Centers for Disease Control and Prevention.

[FR Doc. 02-18818 Filed 7-24-02; 8:45 am]

BILLING CODE 4163-18-P